SECURITIES AND EXCHANGE COMMISSION

[Release No. 34-65317; File No. SR-NASDAQ-2011-127]

Self-Regulatory Organizations; The NASDAQ Stock Market LLC; Notice of Filing and Immediate Effectiveness of Proposed Rule Change To Modify Fees for Members Using the NASDAQ Options Market

September 12, 2011.

Correction

In notice document 2010-23721 beginning on page 57778 the issue of Friday, September 16, 2011 make the following correction:

On page 57781, in the first column, in the 8th line from the bottom of the page, “October 6, 2011” should read “October 7, 2011”.

[FR Doc. C1-2011-23721 Filed 9-30-11; 8:45 am]

BILLING CODE 1505-01-D